DEPARTMENT OF TRANSPORTATION

Federal Aviation Administration

14 CFR Part 39

[Docket No. FAA-2024-0038; Project Identifier MCAI-2023-00645-R; Amendment 39-22756; AD 2024-10-10]

RIN 2120-AA64

Airworthiness Directives; Airbus Helicopters

AGENCY: Federal Aviation Administration (FAA), DOT.

ACTION: Final rule.

SUMMARY: The FAA is adopting a new airworthiness directive (AD) for all Airbus Helicopters Model SA-365N, SA-365N1, AS-365N2, and AS 365 N3 helicopters. This AD was prompted by a report of an obstructed tail rotor (TR) pedal control that was blocked during flight. This AD requires a one-time inspection for proper positioning of the TR actuator harness and cable ties installation and, depending on the results, accomplishing corrective action, as specified in a European Union Aviation Safety Agency (EASA) AD, which is incorporated by reference. The FAA is issuing this AD to address the unsafe condition on these products.

DATES: This AD is effective July 23, 2024.

The Director of the Federal Register approved the incorporation by reference of a certain publication listed in this AD as of July 23, 2024.

ADDRESSES:

AD Docket: You may examine the AD docket at regulations.gov under Docket No. FAA-2024-0038; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

Material Incorporated by Reference:

• For EASA material that is incorporated by reference in this AD, contact EASA, Konrad-Adenauer-Ufer 3, 50668 Cologne, Germany; phone: +49 221 8999 000; email: ADs@easa.europa.eu. You may find this material on the EASA website at ad.easa.europa.eu.

• You may view this material at the FAA, Office of the Regional Counsel, Southwest Region, 10101 Hillwood Pkwy., Room 6N-321, Fort Worth, TX 76177. For information on the availability of this material at the FAA, call (817) 222-5110. It is also available at regulations.gov under Docket No. FAA-2024-0038.

FOR FURTHER INFORMATION CONTACT: Dan McCully, Aviation Safety Engineer, FAA, 1600 Stewart Ave., Suite 410, Westbury, NY 11590; telephone (404) 474-5548; email william.mccully@faa.gov.

SUPPLEMENTARY INFORMATION:

Background

The FAA issued a notice of proposed rulemaking (NPRM) to amend 14 CFR part 39 by adding an AD that would apply to all Airbus Helicopters Model SA-365N, SA-365N1, AS-365N2, and AS 365 N3 helicopters. The NPRM published in the Federal Register on February 2, 2024 (89 FR 7305). The NPRM was prompted by EASA AD 2023-0090, dated May 4, 2023 (EASA AD 2023-0090), issued by EASA, which is the Technical Agent for the Member States of the European Union. The EASA AD advises of a report where a TR pedal control was blocked during flight. Subsequent investigation found interference between the cable tie head of the TR actuator harness and the pin fastener of the tail gearbox cowling. To address this unsafe condition, the manufacturer issued service information to provide instructions for inspecting the positioning of the cable ties on the yaw harness.

In the NPRM, the FAA proposed to require a one-time inspection for proper positioning of the TR actuator harness and cable ties installation and, depending on the results, accomplishing corrective action, as specified in EASA AD 2023-0090. The FAA is issuing this AD to address the unsafe condition on these products.

You may examine the EASA AD in the AD docket at regulations.gov under Docket No. FAA-2024-0038.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the EASA AD referenced above. The FAA reviewed the relevant data and determined that air safety requires adopting this AD as proposed. Accordingly, the FAA is issuing this AD to address the unsafe condition on these products. This AD is adopted as proposed in the NPRM.

Related Service Information Under 1 CFR Part 51

The FAA reviewed EASA AD 2023-0090 which requires visually inspecting the position of the cable tie heads of the harness and corrective actions (replacing the cable ties) if necessary.

This material is reasonably available because the interested parties have access to it through their normal course of business or by the means identified in ADDRESSES.

Other Related Service Information

The FAA also reviewed Airbus Helicopters Alert Service Bulletin No. AS365-22.00.17, Revision 1, dated June 27, 2023. This service information specifies procedures for accomplishing a one-time check of the position of the two cable tie heads in relation to the dzus prisoner of the right fairing of the tail gearbox and replacing the cable ties if necessary.

Differences Between This AD and the EASA AD

EASA AD 2023-0090 requires accomplishing the inspection within 165 flight hours, whereas this AD requires accomplishing the inspection within 100 hours time-in-service.

Costs of Compliance

The FAA estimates that this AD affects 29 helicopters of U.S. registry. Labor costs are estimated at $85 per work-hour. Based on these numbers, the FAA estimates the following costs to comply with this AD.

Visually inspecting the position of the cable ties on the yaw harness and interpreting the results takes about 1 work-hour for an estimated cost of $85 per helicopter and $2,465 for the U.S. fleet.

The FAA estimates the following costs to do any necessary repairs that would be required based on the results of the required inspection. The agency has no way of determining the number of helicopters that might need this repair.

If required, removing and replacing a cable tie takes about 0.5 work-hour and parts cost up to about $10 for an estimated cost of $53 per cable tie replacement.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-10-10 Airbus Helicopters: Amendment 39-22756; Docket No. FAA-2024-0038; Project Identifier MCAI-2023-00645-R.

(a) Effective Date

This airworthiness directive (AD) is effective July 23, 2024.

(b) Affected ADs

None.

(c) Applicability

This AD applies to all Airbus Helicopters Model SA-365N, SA-365N1, AS-365N2, and AS 365 N3 helicopters, certificated in any category.

(d) Subject

Joint Aircraft System Component (JASC) Code: 6720, Tail Rotor Control System.

(e) Unsafe Condition

This AD was prompted by a report of an obstructed tail rotor (TR) pedal control that was blocked during flight. The FAA is issuing this AD to detect and address interference of the tail rotor pedal control. The unsafe condition, if not addressed, could result in loss of yaw control of the helicopter.

(f) Compliance

Comply with this AD within the compliance times specified, unless already done.

(g) Requirements

Except as specified in paragraphs (h) and (i) of this AD: Comply with all required actions and compliance times specified in, and in accordance with, European Union Aviation Safety Agency (EASA) AD 2023-0090, dated May 4, 2023 (EASA AD 2023-0090).

(h) Exceptions to EASA AD 2023-0090

(1) Where paragraph (1) of EASA AD 2023-0090 requires compliance within 165 flight hours, this AD requires accomplishing paragraph (1) of EASA AD 2023-0090 within 100 hours time-in-service.

(2) Where EASA AD 2023-0090 refers to its effective date, this AD requires using the effective date of this AD.

(3) Where the service information referenced in EASA AD 2023-0090 specifies discarding parts, this AD requires removing those parts from service.

(4) This AD does not adopt the “Remarks” section of EASA AD 2023-0090.

(i) No Reporting Requirement

Although the service information referenced in EASA AD 2023-0090 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Dan McCully, Program Manager, International Validation Branch, FAA, 1600 Stewart Ave., Suite 410, Westbury, NY 11590; phone: (404) 474-5548; email: william.mccully@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency (EASA) AD 2023-0090, dated May 4, 2023.

(ii) [Reserved]

(3) For EASA AD 2023-0090, contact EASA, Konrad-Adenauer-Ufer 3, 50668 Cologne, Germany; telephone +49 221 8999 000; email ADs@easa.europa.eu; internet easa.europa.eu. You may find the EASA material on the EASA website at ad.easa.europa.eu.

(4) You may view this service information at the FAA Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on May 15, 2024.
Victor Wicklund,
Deputy Director, Compliance & Airworthiness Division, Aircraft Certification Service.

[FR Doc. 2024-13348 Filed 6-17-24; 8:45 am]

BILLING CODE 4910-13-P